SMALL BUSINESS ADMINISTRATION

Audit and Financial Management Advisory Committee, Re-Establishment

AGENCY: U.S. Small Business Administration (SBA).

ACTION: Notice of re-establishment of Audit and Financial Management Advisory Committee.

SUMMARY: Pursuant to the Federal Advisory Committee Act and its implementing regulations, SBA is issuing this notice to announce the re-establishment of its Audit and Financial Management Advisory Committee. This advisory committee is being re-established to help the agency identify and address financial management topics determined by the Agency.

FOR FURTHER INFORMATION CONTACT: Questions about the Audit and Financial Management Advisory Committee may be directed to John Kushman, telephone (202) 205-6103, fax (202) 481-2671, email john.kushman@sba.gov or mail, U.S. Small Business Administration, 409 3rd Street SW., Washington, DC 20416.

SUPPLEMENTARY INFORMATION: Pursuant to its authority in section 8(b)(13) of the Small Business Act, (15 U.S.C. 637(b)), SBA is re-establishing the Audit and Financial Management Advisory Committee (AFMAC or the Committee). This discretionary committee is being re-established in accordance with the provisions of the Federal Advisory Committee Act, as amended (5 U.S.C. App.).

The AFMAC provides advice and recommendations to SBA on government accounting and performance issues impacting the Agency. The AFMAC's scope of activities includes providing advice as to industry best practices and methods of improving results relating to SBA's financial reporting and auditing processes, financial systems, internal controls, performance measures and recommendations on how to better comply with laws and regulations governing federal financial management.

The Committee has a total of three (3) members, including one Chairperson selected by the SBA Administrator. Members serve as representatives of the financial management community and may consist of financial managers, auditors, chief financial officers or financial management and accounting trade organizations.

Dated: January 31, 2014.
Diana Doukas,
SBA Committee Management Officer.

[FR Doc. 2014-02709 Filed 2-7-14; 8:45 am]

BILLING CODE 8025-01-P